DEPARTMENT OF TRANSPORTATION

Federal Railroad Administration

49 CFR Part 215

[Docket No. FRA-2025-0117]

RIN 2130-AD46

Repealing Special Approval Requirement for Freight Cars More Than 50 Years Old

AGENCY: Federal Railroad Administration (FRA), Department of Transportation (DOT).

ACTION: Notice of proposed rulemaking (NPRM).

SUMMARY: FRA proposes to amend its freight car safety regulations to repeal the requirement for special approval to place or continue a freight car in service if it is more than 50 years old or equipped with any design or type component listed in appendix A to this part. Instead, railroads would be able to continue or place such “overage” cars in service after complying with uniform safety requirements. Those requirements would include comprehensive shop inspections by a designated inspector, single-car air brake testing, recordkeeping, and, as appropriate, stenciling. The proposed requirements are consistent with the most important conditions that FRA now requires through the existing special approval process. Repealing the special approval process and replacing it with the proposed, uniform requirements would provide equivalent safety outcomes while reducing burdens on railroads and eliminating the added delay involved in petitioning FRA for a special approval.

DATES: Comments on the proposed rule must be received by September 2, 2025. FRA may consider comments received after that date, but only to the extent practicable.

ADDRESSES:

Comments: Comments related to Docket No. FRA-2025-0117 may be submitted by going to https://www.regulations.gov and following the online instructions for submitting comments.

Instructions: All submissions must include the agency name, docket number (FRA-2025-0117), and Regulatory Identification Number (RIN) for this rulemaking (2130-AD46). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Steven Zuiderveen, Railroad Safety Specialist, Office of Railroad Safety, at email: steven.zuiderveen@dot.gov or telephone: (202) 493-6337 or Elliott Gillooly, Attorney Adviser, at email: elliott.gillooly@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of title 49, Code of Federal Regulations (CFR).

Title 49 CFR part 215 establishes railroad freight car safety requirements. Some of the requirements contained in part 215 can be updated to reduce burdens, make technical or conforming changes, or otherwise adjust to advancing technology without any adverse effect on railroad safety. FRA proposes in this NPRM to reduce the burden on railroads required to maintain older freight cars in service, while maintaining important inspection and testing requirements for those cars. Please see the details of the proposed changes in the below section-by-section analysis.

II. Section-by-Section Analysis

Section 215.203—Restricted Cars

Section 215.203 currently restricts the operation of any railroad freight car that is more than 50 years old, and any car of a design or equipped with a component listed in appendix A to part 215, by prohibiting its placement or continuance in service, except under conditions approved by FRA. A railroad is required to petition FRA to obtain the required special approval. The petition currently must be submitted at least 90 days before the car is used and state the following information: (i) The name and principal business address of the petitioning railroad; (ii) the name and address of the entity that controls the operation and maintenance of the car involved; (iii) the number, type, capacity, reporting marks, and car numbers of the cars, their condition, status, and age measured from the date of original construction; (iv) the design, type component, or other item that causes the car to be restricted; (v) the maximum load the cars would carry; (vi) the maximum speed at which the cars would be operated; (vii) that each car has been examined and found to be safe to operate under the conditions set forth in the petition; and (viii) the territorial limits within which the cars are to be operated and the name of each railroad that will receive the cars in interchange.

Before FRA makes a decision on a petition, an FRA inspector examines all the cars, or a number of cars representative of all the cars, that are the subject of the railroad's petition for compliance with all Federal safety requirements, including 49 CFR parts 215 (Railroad Freight Car Safety Standards), 231 (Railroad Safety Appliance Standards) and 232 (Brake System Safety Standards). The FRA inspector makes a recommendation following this inspection, and FRA's Safety Board renders a decision based on the petition and the inspector's findings. When approving a railroad's petition, the Safety Board routinely imposes conditions on the placement or continuation of the subject cars in service, such as the completion of a comprehensive shop inspection by qualified personnel, and conditional requirements periodically thereafter. Approvals may also include conditions such as speed limitations, or limitations on the service in which a car or cars may be used. A single-car air brake test (SCABT) may also be required at intervals shorter than generally required by FRA's Brake System Safety Standards in part 232.

FRA's proposed amendments preserve the essential requirements of the existing regulation, including a comprehensive mechanical inspection and SCABT before the car is placed or continued in service as a restricted car and every two years thereafter. FRA has preliminarily determined that some information required in a petition under the current regulation is not necessary for a railroad to make the determination that freight cars more than 50 years old are safe to continue in service. Specifically, the proposed amendments would not require railroads to state any speed restrictions placed on the cars or the maximum loads they will carry as a condition of compliance with § 215.203. Generally, speed limitations and loads will be determined in accordance with the type of car, type of commodity, class of track, terrain, intended routes, and railroad operating rules. Regulated entities would be required to maintain records of all required inspections and tests, including a certification that the subject cars are safe for the service in which they will be placed.

FRA also proposes to delete one category of restricted car currently included in § 215.203—§ 215.203(a)(3), a railroad freight car that is “[e]quipped with a Duryea underframe constructed before April 1, 1950, except for a caboose which is operated as the last car in a train”—as this category is redundant. Any car meeting the condition that it was built before April 1, 1950 is a car more than 50 years old and is included as a restricted car for that reason, regardless of whether it is equipped with a Duryea underframe. FRA has not identified any reason to exclude Duryea underframe cabooses from the requirements placed on restricted cars, as they now are.

FRA proposes to add at § 215.203(b) that “[r]ailroad freight cars approved under a standard such as the Office Manual of the Association of American Railroads' Interchange Rule 88 Increased Life Status process are exempt from the requirements of this section for up to 65 years of service life.” This proposed addition would allow a railroad to place or continue a freight car in service without complying with the requirements of § 215.203(a) only if the car has been approved under an industry standard designed for the safety assessment and maintenance of older cars, which FRA believes will ensure such cars are safe to operate for an additional 15 years beyond the 50-year mark. The industry standards under the Office Manual of the Association of American Railroads' Interchange Rule 88 are more stringent than current FRA requirements for restricted cars and more stringent than any restrictions that FRA proposes in this NPRM.

III. Regulatory Impact and Notices

A. Executive Order (E.O.) 12866 (Regulatory Planning and Review) and DOT Regulatory Policies and Procedures

FRA has evaluated this final rule in accordance with E.O. 12866, Regulatory Planning and Review (58 FR 51735, Oct. 4, 1993), and DOT Order 2100.6B, Policies and Procedures for Rulemaking (Mar. 10, 2025). The Office of Information and Regulatory Affairs within the Office of Management and Budget (OMB) determined that this final rule is not a significant regulatory action under section 3(f) of E.O. 12866.

FRA proposes to amend its freight car regulations to repeal and replace the requirement for special approval to place or continue a freight car more than 50 years old in service, as it would eliminate the added delay and any uncertainty involved in petitioning FRA for a special approval. FRA analyzed the potential costs and benefits of this proposed rule. Railroads would benefit from this regulatory relief because they would be able to keep certain older cars in service, provided that the cars are inspected and tested as required and found safe for service. Railroads would also avoid the additional costs associated with filing petitions for special approvals with FRA, including the time and expense required to complete the petitions and have employees present for FRA inspections prior to a Safety Board decision. Some of this regulatory relief may be offset by the additional costs from the proposed record retention requirement to maintain all required inspections and tests. However, these additional costs may be negligible and outweighed by the benefits of keeping certain older cars in service without the existing special approval process. FRA welcomes any comments from the public on the impacts of this proposed rule.

B. E.O. 14192 (Unleashing Prosperity Through Deregulation)

E.O. 14192, Unleashing Prosperity Through Deregulation (90 FR 9065, Jan. 31, 2025), requires that for “each new [E.O. 14192 regulatory action] issued, at least ten prior regulations be identified for elimination.” ¹ Implementation guidance for E.O. 14192 issued by OMB (Memorandum M-25-20, Mar. 26, 2025) defines two different types of E.O. 14192 actions: an E.O. 14192 deregulatory action, and an E.O. 14192 regulatory action.²

¹ Executive Office of the President. Executive Order 14192 of January 31, 2025. Unleashing Prosperity Through Deregulation. 90 FR 9065-9067. Feb. 6, 2025.

² Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This proposed rulemaking is expected to have total costs less than zero, and therefore it would be considered an E.O. 14192 deregulatory action upon issuance of a final rule. While FRA affirms that each amendment proposed in this NPRM has a cost that is “less than zero” consistent with E.O. 14192, FRA still requests comment on the extent of the cost savings for the changes proposed in this NPRM.

C. Regulatory Flexibility Act and E.O. 13272

The Regulatory Flexibility Act (5 U.S.C. 601 et seq.), as amended by the Small Business Regulatory Enforcement Fairness Act of 1996,³ requires Federal agencies to consider the effects of the regulatory action on small business and other small entities and to minimize any significant economic impact. Accordingly, DOT policy requires an analysis of the impact of all regulations on small entities, and mandates that agencies strive to lessen any adverse effects on these businesses. The term small entities comprises small businesses and not-for-profit organizations that are independently owned and operated and are not dominant in their fields, and governmental jurisdictions with populations of less than 50,000 (5 U.S.C. 601(6)).

³ Public Law 104-121, 110 Stat. 857 (Mar. 29, 1996).

No regulatory flexibility analysis is required, however, if the head of an Agency or an appropriate designee certifies that the rule will not have a significant economic impact on a substantial number of small entities. This proposed rule merely offers flexibilities that could result in cost savings, if a small entity or other regulated entity chooses to utilize those flexibilities. By extending this regulatory relief, many regulated entities, including small entities, would experience a cost savings. Consequently, FRA certifies that the proposed action would not have a significant economic impact on a substantial number of small entities.

In accordance with section 213(a) of the Small Business Regulatory Enforcement Fairness Act of 1996 (Pub. L. 104-121, 110 Stat. 857), FRA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

D. Paperwork Reduction Act

The recordkeeping and reporting requirements already contained in part 215 became effective when the information collection request was approved by OMB on April 24, 2023. The OMB control number is 2130-0519, and OMB approval expires on April 30, 2026. However, the petition requirement for restricted cars has not previously been reported as a burden under the Paperwork Reduction Act of 1995 (44 U.S.C. 3501 et seq.). This NPRM proposes a deregulatory action, and FRA anticipates that the overall burden on owners and operators of restricted cars will be reduced relative to the existing regulatory requirements. FRA requests public comment on any PRA burdens associated with the proposed amendments to § 215.203.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

Pursuant to section 106 of the National Historic Preservation Act and its implementing regulations, FRA has determined this undertaking has no potential to affect historic properties. FRA has also determined that this rulemaking does not approve a project resulting in a use of a resource protected by section 4(f).

F. Federalism Implications

This proposed rule will not have a substantial effect on the States, on the relationship between the national government and the States, or on the distribution of power and responsibilities among the various levels of government. Thus, in accordance with E.O. 13132, Federalism (64 FR 43255, Aug. 10, 1999), preparation of a Federalism Assessment is not warranted.

G. Unfunded Mandates Reform Act of 1995

This proposed rule would not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211, Actions Concerning Regulations that Significantly Affect Energy Supply, Distribution, or Use, 66 FR 28355 (May 22, 2001), requires Federal agencies to prepare a Statement of Energy Effects for any “significant energy action.” FRA has evaluated this rule in accordance with E.O. 13211 and determined that this rule is not a “significant energy action” within the meaning of E.O. 13211.

I. E.O. 13175 (Tribal Consultation)

FRA has evaluated this proposed rule in accordance with the principles and criteria contained in E.O. 13175, Consultation and Coordination with Indian Tribal Governments, (Nov. 6, 2000). The proposed rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 ⁴ prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the United States.

⁴ 19 U.S.C. ch. 13.

K. Privacy Act Statement

In accordance with 5 U.S.C. 553(c), DOT solicits comments from the public to better inform its rulemaking process. DOT posts these comments, without edit, to http://www.regulations.gov, as described in the system of records notice, DOT/ALL-14 FDMS, accessible through www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

L. Rulemaking Summary

As required by 5 U.S.C. 553(b)(4), a summary of this rule can be found at regulations.gov, Docket No. FRA-2025-0117, in the SUMMARY section of this proposed rule.

List of Subjects in 49 CFR Part 215

Freight, Penalties, Railroad safety, Reporting and recordkeeping requirements.

The Proposed Rule

For the reasons discussed in the preamble, FRA proposes to amend part 215 of chapter II, subtitle B of title 49, Code of Federal Regulations as follows:

PART 215—RAILROAD FREIGHT CAR SAFETY STANDARDS

1. The authority citation for part 215 continues to read as follows:

Authority: 49 U.S.C. 20102-03, 20107, 20171; 28 U.S.C. 2461; and 49 CFR 1.89.

§ 215.203 [Amended]

2. Revise § 215.203 to read as follows:

§ 215.203 Restricted cars.

(a) A railroad may operate a railroad freight car that is more than 50 years old, measured from the date of original construction, or a freight car that is equipped with any design or type component listed in appendix A to this part, only under the following conditions:

(1) The railroad maintains a record of each car and makes such record available to FRA upon request, including the following information:

(i) The number, type, capacity, reporting marks, and car number of the car, and its condition, status, and age measured from the date of original construction; and

(ii) The design, type component, or other item that causes the car to be restricted; and

(2) The car must undergo a comprehensive shop inspection by a designated inspector, as defined in § 215.11, at least once every 2 years. At a minimum, each inspection must include the following and be documented in a record to be maintained with the record specified in paragraph (a)(1) of this section:

(i) A determination that the car complies with subpart B of this part;

(ii) A single-car air brake test in accordance with § 232.305(b); and

(iii) A certification that the car is safe for the service in which it will be placed; and

(3) Except for railroad freight cars used exclusively for tourist, historic, excursion, educational, recreational, or private purposes and that are not interchanged, a freight car subject to this section must be stenciled on each side of the car in accordance with § 215.303. Further, the date of the car's most recent inspection under paragraph (a)(2) of this section must be stenciled on the car in letters at least 1 inch high, immediately following “R-AGE.”

(b) Railroad freight cars approved under a standard such as the Office Manual of the Association of American Railroads' Interchange Rule 88 Increased Life Status process are exempt from the requirements of this section for up to 65 years of service life.

Issued in Washington, DC.
Kyle D. Fields,
Chief Counsel.

[FR Doc. 2025-12192 Filed 6-27-25; 4:15 pm]

BILLING CODE 4910-06-P